DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Oregon Department of Transportation

(Waiver Petition Docket Number FRA-2003-15168)

The State of Oregon, Department of Transportation (ODOT) owns three self-propelled passenger coaches (Railway Diesel Cars—RDC) which were built by the Budd Company in 1956. These cars are not used in regular commuter service, but only on a limited seasonal basis in conjunction with the Lewis and Clark Expedition bicentennial. The cars operate one round trip per day, four days per week (Thursday to Sunday), on trackage owned by the Portland and Western Railroad. The excursion trains operate from a station in Portland, Oregon to Astoria, Oregon where passengers may board special shuttle busses to nearby Fort Clatsop National Historic Site where Lewis and Clark wintered over in 1805-06.

The route traversed by this train goes through three very different types of geography:

1. The first four miles of BNSF track and first two miles of the Portland & Western Railroad are mostly through an industrial area of northwest Portland. This route is also used by Portland to Seattle, Washington intercity trains. Vandalism to passenger trains has not been reported as being a problem;

2. The next 87 miles is mostly rural and a light density population area. This section has no known history of vandalism or incidents of property damage to railroad equipment;

3. The last six miles in Astoria is located on fills and trestles with no public access to trackside. The final segment is adjacent to the Astoria Waterfront Trolley which has not been subjected to incidents of vandalism.

ODOT requests temporary relief from the requirements of Title 49 Code of Federal Regulations (CFR) 223.15 Requirements for existing passenger cars due to the infrequent use of the cars, the planned usage for excursion service, and the cost schedule of installing compliant glazing prior to initiation of service. The cars are former VIA Rail Canada equipment and have a double-pane combination of ¼-inch thick safety glass inside and plate glass outside. This glazing system remains the standard in Canada for passenger equipment and these cars are fully compliant with Canadian glazing standards. Also, removable emergency exit windows have been installed in each car as required by 49 CFR 223.15(c). Therefore, the petitioner believes that the operation of these cars, as equipped, would not pose a safety hazard to passengers or employees.

ODOT intends to replace the side facing windows with compliant FRA Type II glazing and has requested funding to do so from the Oregon State Legislature. ODOT believes that the glazing on all three cars can be brought into compliance with the requirements of 49 CFR 223.15 by May 2004.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

FRA's Office of Safety Assurance and Compliance issued a letter to ODOT on May 13, 2003 which stated that no exception will be taken to the continued use of these cars in excursion service until a Final Decision is rendered by FRA's Railroad Safety Board which shall take precedence. Due to exigent circumstances related to the start of planned service, FRA may act on this waiver request before the close of the comment period. However, FRA reserves the right to rescind or modify any approval or denial based upon receipt of comments which, in FRA's judgement, raise significant issues.

All communications concerning these proceedings should identify the appropriate docket number (e.g., Waiver Petition Docket Number FRA-2003-15168) and must be submitted in triplicate to the Docket Clerk, Office of Chief Counsel, FRA Nassif Building, 400 Seventh Street, SW., Washington, DC 20590. Communications received within 30 days of the date of this notice will be considered by FRA. Comments received after that date will be considered as far as practicable. All written communications concerning these proceedings are available for examination during regular business hours (9 a.m.-5 p.m.) at FRA's temporary docket room located at 1120 Vermont Avenue, NW., Room 7051, Washington, DC 20005.

Issued in Washington, DC on May 14, 2003.
Grady C. Cothen, Jr.,
Deputy Associate Administrator, for Safety Standards and Program Development.

[FR Doc. 03-12633 Filed 5-19-03; 8:45 am]

BILLING CODE 4910-06-P